DEPARTMENT OF ENERGY

Federal Energy Regulatory Commission

Combined Notice of Filings #1

Take notice that the Commission received the following electric rate filings:

Docket Numbers: ER10-1776-004; ER10-2824-004; ER10-2825-005; ER10-2957-005; ER10-2995-005; ER10-2996-004; ER10-2999-004; ER10-3000-004; ER10-3009-006; ER10-3013-005; ER10-3029-004; ER16-1250-014; ER19-2360-003; ER21-2272-002; ER21-2748-002; ER21-2847-002; ER22-2173-001; ER22-2174-001.

Applicants: Daybreak Solar, LLC, Bakeoven Solar, LLC, Montague Solar, LLC, Lund Hill Solar, LLC, Bracewell LLP, Golden Hills Wind Farm, LLC, Montague Wind Power Facility, LLC, Avangrid Renewables, LLC, Klondike Wind Power III LLC, Star Point Wind Project LLC, Pebble Springs Wind LLC, Klondike Wind Power II LLC, Klondike Wind Power LLC, Klamath Energy LLC, Juniper Canyon Wind Power LLC, Hay Canyon Wind LLC, Big Horn II Wind Project LLC, Big Horn Wind Project LLC, Leaning Juniper Wind Power II LLC.

Description: Notice of Change in Status of Leaning Juniper Wind Power II LLC, et al.

Filed Date: 11/8/22.

Accession Number: 20221108-5166.

Comment Date: 5 p.m. ET 11/29/22.

Docket Numbers: ER22-2643-000.

Applicants: Three Corners Solar, LLC.

Description: Refund Report: Refund Report to be effective N/A.

Filed Date: 11/9/22.

Accession Number: 20221109-5043.

Comment Date: 5 p.m. ET 11/30/22.

Docket Numbers: ER22-2914-000; ER22-2916-000.

Applicants: Mesquite Solar 5, LLC, Mesquite Solar 4, LLC.

Description: Supplement to September 22, 2022, Mesquite Solar 4, LLC, et al., tariff filing.

Filed Date: 11/4/22.

Accession Number: 20221104-5153.

Comment Date: 5 p.m. ET 11/14/22.

Docket Numbers: ER23-394-000.

Applicants: Pacific Gas and Electric Company.

Description: Tariff Amendment: Termination of AltaGas San Joaquin Energy GSFA and GIA—Henrietta (TO SA 46) to be effective 1/9/2023.

Filed Date: 11/9/22.

Accession Number: 20221109-5000.

Comment Date: 5 p.m. ET 11/30/22.

Docket Numbers: ER23-395-000.

Applicants: Lightsource Renewable Energy Development, LLC.

Description: Petition for Limited Tariff Waiver and Request for Shortened Comment Period and Expedited Commission Approval of Lightsource Renewable Energy Development, LLC.

Filed Date: 11/8/22.

Accession Number: 20221108-5163.

Comment Date: 5 p.m. ET 11/18/22.

Docket Numbers: ER23-396-000.

Applicants: New England Power Company.

Description: § 205(d) Rate Filing: 2022-11-09 Filing of Cost Reimbursement Agreement with Holden Muni. Light Dept. to be effective 10/10/2022.

Filed Date: 11/9/22.

Accession Number: 20221109-5051.

Comment Date: 5 p.m. ET 11/30/22.

Docket Numbers: ER23-397-000.

Applicants: PJM Interconnection, L.L.C.

Description: § 205(d) Rate Filing: Amendment to ISA and ICSA, SA Nos. 5564 and 5565; Queue No. AA2-161 (amend) to be effective 1/16/2020.

Filed Date: 11/9/22.

Accession Number: 20221109-5059.

Comment Date: 5 p.m. ET 11/30/22.

Docket Numbers: ER23-398-000.

Applicants: Cove Mountain Solar, LLC.

Description: Tariff Amendment: Cancellation of Rate Schedule Tariff to be effective 11/10/2022.

Filed Date: 11/9/22.

Accession Number: 20221109-5070.

Comment Date: 5 p.m. ET 11/30/22.

Docket Numbers: ER23-399-000.

Applicants: Cove Mountain Solar 2, LLC.

Description: Tariff Amendment: Cancellation of Rate Schedule Tariff to be effective 11/10/2022.

Filed Date: 11/9/22.

Accession Number: 20221109-5071.

Comment Date: 5 p.m. ET 11/30/22.

Docket Numbers: ER23-400-000.

Applicants: Tri-State Generation and Transmission Association, Inc.

Description: § 205(d) Rate Filing: Certificate of Concurrence for PacifiCorp Transmission Interconnection Agreement to be effective 1/7/2023.

Filed Date: 11/9/22.

Accession Number: 20221109-5077.

Comment Date: 5 p.m. ET 11/30/22.

Docket Numbers: ER23-401-000.

Applicants: CED Timberland Solar, LLC.

Description: Baseline eTariff Filing: Application for Market-Based Rate Authorization and Request for Waivers to be effective 1/9/2023.

Filed Date: 11/9/22.

Accession Number: 20221109-5083.

Comment Date: 5 p.m. ET 11/30/22.

Take notice that the Commission received the following electric securities filings:

Docket Numbers: ES23-6-000.

Applicants: Mountrail-Williams Electric Cooperative.

Description: Application Under Section 204 of the Federal Power Act for Authorization to Issue Securities of Mountrail-Williams Electric Cooperative.

Filed Date: 11/9/22.

Accession Number: 20221109-5049.

Comment Date: 5 p.m. ET 11/30/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2022.
Debbie-Anne A. Reese,
Deputy Secretary.

[FR Doc. 2022-24935 Filed 11-15-22; 8:45 am]

BILLING CODE 6717-01-P